DEPARTMENT OF TRANSPORTATION

Federal Aviation Administration

Proposed Technical Standard Order (TSO)-C176, Aircraft Image Recorder Systems

AGENCY: Federal Aviation Administration (DOT).

ACTION: Notice of availability and request for public comment.

SUMMARY: This notice announces the availability of, and requests comments on a proposed Technical Standard Order (TSO) C-176, Aircraft Image Recorder Systems. This proposed TSO tells persons seeking a TSO authorization or letter or design approval what minimum performance standards (MPS) their aircraft image recorder system (AIRS) must meet. In it, we (the Federal Aviation Administration, or FAA) tell you what minimum performance standard (MPS) your AIRS must first meet for approval and identification with the applicable TSO marking.

DATES: Comments must be received on or before February 27, 2006.

ADDRESSES: Send all comments on the proposed technical standard order to: Federal Aviation Administration (FAA), Aircraft Certification Service, Aircraft Engineering Division, Avionic Systems Branch, AIR-130, 470 L'Enfant Plaza, SW., Suite 4102, Washington, DC 20024. Attn: Mrs. Veronica Gardner. Or deliver comments to: Federal Aviation Administration, Suite 4102, 470 L'Enfant Plaza, SW., Washington, DC 20024.

FOR FURTHER INFORMATION CONTACT: Mrs. Veronica Gardner, AIR-130, Suite 4102, Federal Aviation Administration, Aircraft Certification Service, Aircraft Engineering Division, 470 L'Enfant Plaza, SW., Washington, DC 20024. Telephone (202) 385-4690, FAX: (202) 202-5340. Or, via e-mail at: veronica.gardner@faa.gov.

SUPPLEMENTARY INFORMATION:

Comments Invited

Interested persons are invited to comment on the proposed TSO listed in this notice by submitting such written data, views, or arguments as they desire to the above specified address. Comments received on the proposed TSO may be examined, before and after the comment closing date, in Room 815, FAA Headquarters Building, 800 Independence Avenue, SW., Washington, DC 20591, weekdays except Federal holidays, between 8:30 a.m. and 4:30 p.m. All communications received on or before the closing date will be considered by the Director of the Aircraft Certification Service before issuing the final TSO.

Background

The National Transportation Safety Board (NTSB) determined the probable cause of a recent aircraft accident to be pilot error, stating that the events that led to the accident were difficult for investigators to determine because of limited data. As a result of the limited data available to provide a more definitive cause of the accident, the NTSB recommended among other things, that the Federal Aviation Administration incorporate the European Organization for Civil Aviation Equipment's proposed standards for a crash-protective video recording system into a TSO. We concurred with the NTSB's recommendation, by offering proposed TSO-C176 for a crash-protective video recording system.

How to Obtain Copies

You may get a copy of the proposed TSO-C26d from the Internet at: http://www.faa.gov/aircraft/draft_docs/. See section entitled FOR FURTHER INFORMATION CONTACT for the complete address if requesting a copy by mail. Copies of SAE ARP5381 may be purchased from the Society of Automotive Engineers, Inc., Department 331, 400 Commonwealth Drive, Warrendale, PA 15096-0001. Copies can also be obtained through the SAE Internet Web site at http://www.sae.org.

Issued in Washington, DC, on January 20, 2006.
Susan J.M. Cabler,
Assistant Manager, Aircraft Engineering Division, Aircraft Certification Service.

[FR Doc. 06-723 Filed 1-25-06; 8:45 am]

BILLING CODE 4910-13-M